DEPARTMENT OF TRANSPORTATION

Federal Aviation Administration

14 CFR Part 71

[Docket No. FAA-2017-0665; Airspace Docket No. 17-ASO-7]

RIN 2120-AA66

Amendment of VOR Federal Airways V-56, and V-209 in the Vicinity of Kewanee, MS

AGENCY: Federal Aviation Administration (FAA), DOT.

ACTION: Final rule.

SUMMARY: This action modifies VHF Omnidirectional Range (VOR) Federal airways V-56 and V-209, in the vicinity of Kewanee, MS. This action is necessary due to the planned decommissioning of the Kewanee, MS, VORTAC navigation aid, which provides navigation guidance for segments of the routes.

DATES: Effective date 0901 UTC, May 21, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Policy Group, Federal Aviation Administration, 800 Independence Avenue SW, Washington, DC 20591; telephone: (202) 267-8783. The Order is also available for inspection at the National Archives and Records Administration (NARA). For information on the availability of FAA Order 7400.11D at NARA, email: fedreg.legal@nara.gov, or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure in the National Airspace System as necessary to preserve the safe and efficient flow of air traffic.

History

The FAA published a notice of proposed rulemaking for Docket No. FAA-2017-0665 in the Federal Register (82 FR 40737; August 28, 2017) amending VOR Federal airways V-56, and V-209 due to the planned decommissioning of the Kewanee, MS, VORTAC. Interested parties were invited to participate in this rulemaking effort by submitting written comments on the proposal. One comment was received.

Discussion of Comment

The Aircraft Owners and Pilots Association (AOPA) stated that, when VOR NAVAIDs are to be decommissioned and routes correspondingly removed, the FAA should create an Area Navigation (RNAV) waypoint (WP) at the previous NAVAID location, and retain all fixes and intersections along the removed route by converting them to RNAV waypoints.

The FAA established the KWANE, MS, WP located near the current location of the Kewanee VORTAC. In a separate rulemaking action, the FAA established a new RNAV route, designated T-239 that replaces V-56 between Meridian, MS, and Montgomery, AL; and RNAV route T-292 that replaces V-209 between the YARBO, AL, fix, and the EUTAW, AL, fix. Selected fixes along the affected route sections are incorporated in T-239 and T-292.

VOR Federal airways are published in paragraph 6010(a) of FAA Order 7400.11D dated August 8, 2019, and effective September 15, 2019, which is incorporated by reference in 14 CFR 71.1. The VOR Federal airways listed in this document would be subsequently published in the Order.

FAA Order 7400.11, Airspace Designations and Reporting Points, is published yearly and effective on September 15.

Differences From the NPRM

The NPRM incorrectly listed the wrong location for the Kewannee VORTAC; correct location is Kewannee, MS. The NPRM proposed to amend V-56 by removing the airway segments between Meridian, MS, and Tuskegee, AL. The FAA has decided to retain the segment between Montgomery, AL and Tuskegee, AL in order to join T-290 at Montgomery.

The Rule

The FAA is amending Title 14 Code of Federal Regulations (14 CFR) part 71 by modifying VOR Federal airways V-56 and V-209. The planned decommissioning of the Kewanee, MS, VORTAC has made these actions necessary. The VOR Federal airway changes are outlined below.

V-56: V-56 currently extends between the Meridian, MS, VORTAC and the New Bern, NC, VOR/DME. This rule removes the airway segments between the Meridian, MS, VORTAC and the Montgomery, AL, VOR/DME. As amended, V-56 extends between Montgomery, AL, and New Bern, NC as currently charted.

In a separate action, (84 FR 64989; November 26, 2019) the FAA established RNAV route T-290 that extends between the HABJE, MS, fix (west of the Meridian, MS, VORTAC) and the JACET, GA, waypoint. T-290 replaces V-56 between Meridian, MS, and Montgomery, AL.

V-209: V-209 currently extends between the Semmes, AL, VORTAC and the Choo Choo, TN, VORTAC. This action removes the Kewanee, AL, VORTAC from the route, resulting in a gap in the airway between the intersection of the Semmes, AL, 356° and Eaton, MS, 080° radials (i.e., the charted YARBO, AL, fix, located approximately 43 NM north of Semmes, AL), and the intersection of the Bigbee, MS 139°(T)/135°(M) and Brookwood, AL 230°(T)/230°(M) radials (i.e., the charted EUTAW, AL, fix, located approximately 41 NM northeast of Kewanee). Therefore, the amended V-209 route consists of two sections: first, between Semmes, AL, and the YARBO fix; and, after the gap, V-209 resumes between the EUTAW fix to Choo Choo, TN as currently charted.

In the above separate action, the FAA established RNAV route T-292 that extends between Semmes, AL, and the JACET, GA, WP. T-292 replaces V-209 between the YARBO, AL, fix and the EUTAW, AL, fix.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying VOR Federal airways V-56 and V-209 near Kewanee, MS, qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6010(a) Domestic VOR Federal Airways.

* * * * *

V-56 [Amended]

From Montgomery, AL; Tuskegee, AL; Columbus, GA; INT Columbus 087° and Macon, GA, 266° radials; Macon; Colliers, SC; Columbia, SC; Florence, SC; Fayetteville, NC, 41 miles 15 MSL, INT Fayetteville 098° and New Bern, NC 256° radials; to New Bern.

V-209 [Amended]

From Semmes, AL, to INT Semmes 356° and Eaton, MS, 080° radials. From INT Bigbee, MS 139° and Brookwood, AL 230° radials; Brookwood; Vulcan, AL; INT Vulcan 097° and Gadsden, AL, 233° radials; Gadsden; INT Gadsden 042° and Choo Choo, TN, 214° radials; Choo Choo.

Issued in Washington, DC, on February 25, 2020.
Scott M. Rosenbloom,
Acting Manager, Rules and Regulations Group.

[FR Doc. 2020-04422 Filed 3-5-20; 8:45 am]

BILLING CODE 4910-13-P